Proclamation 7793 of June 5, 2004

National Child's Day, 2004

By the President of the United States of America

A Proclamation

Children are a precious gift and a source of great hope for our future. National Child's Day celebrates children and reminds us of the importance of nurturing a child's personal development and providing a safe environment in which to grow.

Children need our guidance and support. During this time in America's history, teaching our children to love our Nation and its values remains a critical responsibility. We need to help young people understand that freedom is God's gift to every man and woman and that America's legacy is one of ensuring liberty for all. Our children also need to know about what other generations have done to build and preserve this great country, including the service and sacrifice of the men and women who have defended our Nation. To help prepare our next generation of leaders to carry on America's tradition of freedom, my Administration has launched the “We the People” initiative to improve the teaching of history and civics in America's schools, along with the “Our Documents” initiative to help make the treasures in our Nation's archives more accessible to students and teachers.

Building a solid foundation of character education for our young people helps to keep our country strong. We live by the immutable values that families, schools, and religious congregations instill in us. To assist these fundamental institutions as they shape generations of Americans, my Administration is supporting Partnerships in Character Education, which helps establish educational programs that focus on caring, civic virtue, citizenship, justice, fairness, respect, responsibility, and trustworthiness. It is essential to teach these morals with confidence and conviction, as they will guide America's children through their lives.

Government cannot replace the love of a family in a child's life, but it can help create an environment where children can grow into healthy, responsible adults. My Administration has taken several steps to strengthen education and promote the safety and well-being of America's children. I signed the No Child Left Behind Act of 2001 to transform education and open the door of opportunity to all of our children. We have also strengthened laws to protect children from criminals and expanded the AMBER Alert system to help recover abducted children. And because the decisions young people make now can affect their health and character for the rest of their lives, my Administration is working to send positive messages to children to help them make healthy lifestyle choices, avoid the dangers of drug use, and to develop healthy eating and exercise habits early in life.

On National Child's Day, we recognize the importance of working together to create a society that is safe for our children, and we renew our commitment to helping families build a bright future for young people and our Nation.

NOW, THEREFORE, I, GEORGE W. BUSH, President of the United States of America, by virtue of the authority vested in me by the Constitution and laws of the United States, do hereby proclaim June 6, 2004, as National Child's Day. I urge all Americans to set a positive example for children and to work to ensure that their communities are safe and supportive places that help young people grow and reach their full potential. I also call upon citizens to observe this day with appropriate programs, ceremonies, and activities.

IN WITNESS WHEREOF, I have hereunto set my hand this fifth day of June, in the year of our Lord two thousand four, and of the Independence of the United States of America the two hundred and twenty-eighth.

B

[FR Doc. 04-13121

Filed 6-7-04; 12:01 pm]

Billing code 3195-01-P